DEPARTMENT OF AGRICULTURE

Office of the Secretary

Meeting Notice of the National Agricultural Research, Extension, Education, and Economics (NAREEE) Advisory Board, National Genetic Resources Advisory Council (NGRAC)

AGENCY: Research, Education, and Economics, USDA.

ACTION: Notice of public meeting.

SUMMARY: In accordance with the Federal Advisory Committee Act, section 1408 of the National Agricultural Research, Extension, and Teaching Policy Act of 1977, and the Agriculture Improvement Act of 2018, the United States Department of Agriculture (USDA) announces a meeting of the National Agricultural Research, Extension, Education, and Economics (NAREEE) Advisory Board, National Genetic Resources Advisory Council (NGRAC), a subcommittee of NAREEE.

DATES: The National Agricultural Research Extension, Education, and Economics Advisory Board, National Genetic Resources Advisory Council will meet in person on April 11-12, 2023.

Public Participation/Oral Comments: This meeting is open to the public. Interested individuals may participate in-person or via internet. To attend the meeting via Zoom and/or make oral comments, you must contact Ms. Michele Simmons at email: nareee@usda.gov at least 5 business days prior to the meeting (no later than April 4, 2023). Members of the public will be heard in the order in which they sign up.

Written Comments: The public may file written comments no later than April 4, 2023. Written comments from the public may be submitted via email at nareee@usda.gov to the attention of Ms. Michele Simmons.

All statements will become a part of the official record of the NAREEE Advisory Board and will be kept on file for public review in the NAREEE Advisory Board's Office. Written comments by attendees and other interested stakeholders will be welcomed for the public record before and up to two weeks following the Board meeting (no later than 5 p.m. eastern standard time on Wednesday, April 26, 2023).

ADDRESSES: The meeting will take place in person at the USDA National Laboratory for Genetic Resources Preservation, 1111 South Mason St., Fort Collins, CO 80521.

A link for virtual participation will be provided for those unable to attend the meeting in person.

Web Preregistration: Participants wishing to virtually participate should preregister by email at nareee@usda.gov to the attention of Ms. Michele Simmons. A meeting link will be sent out to pre-registered guests.

FOR FURTHER INFORMATION CONTACT: Ms. Kate Lewis, Executive Director/Designated Federal Official, or Ms. Michele Simmons, Program Support Coordinator, National Agricultural Research, Extension, Education, and Economics Advisory Board; telephone: (202) 579-6610 or email: nareee@usda.gov.

SUPPLEMENTARY INFORMATION:

Purpose of the meeting: for members to discuss the future recommendations this Council will provide to the Secretary of Agriculture and to the National Genetic Resources Program (NGRP), part of USDA's Agricultural Research Service, on new and innovative approaches to genetic resources conservation. Topics to be discussed may include actions and policies for the collection, maintenance, and utilization of genetic resources; and the review of genetic resources plans of several domestic and international organizations.

An agenda for this two-day meeting may be received by sending an email to the attention of Ms. Michele Simmons at nareee@usda.gov.

This notice is being published less than 15 days prior to the meeting due to timing limitations imposed by planning and scheduling difficulties.

Dated: March 27, 2023.
Cikena Reid,
USDA Committee Management Officer.

[FR Doc. 2023-06614 Filed 3-29-23; 8:45 am]

BILLING CODE 3410-03-P